DEPARTMENT OF DEFENSE

Department of the Army

Draft Environmental Impact Statement (DEIS) for the Real Property Master Plan at the Presidio of Monterey (POM), California

AGENCY: Department of the Army, DoD.

ACTION: Notice of Availability (NOA).

SUMMARY: The Department of the Army announces the availability of the DEIS for the Real Property Master Plan at the POM. This document analyzes and evaluates potential environmental impacts associated with proposed development at two properties: POM (located on the Monterey Peninsula between the cities of Monterey and Pacific Grove) and Ord Military Community (OMC) (approximately eight miles northeast of the POM and situated within the former Fort Ord military installation and adjacent to the City of Seaside). Both properties are located within Monterey County and in close proximity to the Pacific Ocean coast.

DATES: The public comment period will end 45 days after publication of the NOA in the Federal Register by the U.S. Environmental Protection Agency.

ADDRESSES: Questions or comments regarding the DEIS should be forwarded to: Department of the Army, U.S. Army Garrison Presidio of Monterey, Directorate of Public Works, Master Plans (Attention: Robert Guidi), P.O. Box 5004, Presidio of Monterey, California 93944-5004; e-mail to robert.g.guidi@us.army.mil; or fax to (831) 242-7097 (Attention: Master Plans).

FOR FURTHER INFORMATION CONTACT: Mr. John Elliott at (831) 242-7777 or via e-mail at john.elliott5@us.army.mil.

SUPPLEMENTARY INFORMATION: The Real Property Master Plan identifies facility improvements and phased construction to maintain and enhance the professional standards established by the Defense Language Institute Foreign Language Center (DLIFLC). Modernization of classrooms, living quarters, and support facilities helps ensure a sustainable mission throughout the foreseeable future.

The Department of Defense foreign language Proficiency Enhancement Program (PEP) changes the student-to-instructor ratio and will result in a greater overall base population. POM needs to train more linguists for deployment throughout the world, because current projections indicate a shortfall in personnel properly trained to interface with people of other nations. The existing facilities at the POM neither meet current needs nor the anticipated population growth at the DLIFLC. This fact coupled with anti-terrorism/force protection results in the need to change the physical landscape at the POM and OMC.

There are three project alternatives analyzed in this DEIS: No Action, POM centric and POM and OMC. Six other alternatives are considered and eliminated from further analysis.

(1) The No Action Alternative describes the conditions that would result by maintaining the current conditions and not proceeding with the proposed new construction. One key component of the No Action Alternative is the installation's population is expected to increase because of the demand for additional linguists even if no improvements are made. This condition results in a need for more housing and service throughout the neighboring communities.

(2) POM-centric (the preferred alternative) proposes the majority of the new construction and development within the existing central campus at the POM. Several community service facilities are proposed at the OMC to support the military family housing areas. No new barracks or instructional facilities are proposed at the OMC as part of the POM-centric alternative.

(3) The POM and OMC alternative proposes new construction at both properties. Construction at the OMC is limited to the existing Army-owned land, primarily next to military housing and within the Joe Lloyd Way compound.

The potential for significant environmental impacts is the greatest for the following resource areas: Aesthetics, endangered plant species and associated critical habitat, housing, land use, population, public services, traffic circulation, and water usage.

All government agencies, special interest groups and individuals are invited to attend the public meetings and/or submit their comments in writing. Information on the time and location of public meetings will be published locally.

Copies of the DEIS are available at Chamberlain Library, Seaside; City of Monterey Public Library, Monterey; City of Pacific Grove Public Library, Pacific Grove; and Monterey County Library, Seaside Branch, Seaside. The DEIS can also be viewed at the following Web site: http://www.monterey.army.mil/dpw/index.html.

Brenda S. Bowen,
Army Federal Register Liaison Officer.

[FR Doc. 2011-9680 Filed 4-21-11; 8:45 am]

BILLING CODE 3710-08-P